DEPARTMENT OF AGRICULTURE

Forest Service

National Urban and Community Forestry Advisory Council

AGENCY: Forest Service, Agriculture (USDA).

ACTION: Solicitation for members.

SUMMARY: The United States Department of Agriculture (USDA) is seeking nominations for members to the National Urban and Community Forestry Advisory Council (NUCFAC) pursuant the 1990 Farm Bill, Cooperative Forestry Assistance Act, the Cooperative Forestry Assistance Act (the Act), and the Federal Advisory Committee Act (FACA). Additional information on NUCFAC can be found by visiting the NUCFAC website at: https://www.fs.usda.gov/managing-land/urban-forests/ucf/nucfac.

DATES: Electronic and written nominations must be received by October 19, 2022.

ADDRESSES: Send completed application packets via email to sm.fs.nucfac@usda.gov, remembering to send the AD-755 Form in a separate email. The subject line should read “NUCFAC Nominations (Candidates Name)” for the application packet and “Encrypted AD-755 (Candidates Name)” for the AD-755 Form.

Courier submissions of application packets (on a thumb/flash drive) are also accepted. Please send to: Nancy Stremple, Executive Staff to National Urban and Community Forestry Advisory Council, 201 14th Street SW, Sidney Yates Building, Room 3NW-01B, Washington, DC 20024.

FOR FURTHER INFORMATION CONTACT: Nancy Stremple, Executive Staff to the National Urban and Community Forestry Advisory Council, 201 14th Street SW, Sidney Yates Building, Room 3NW-01B, Washington, DC 20024; telephone (202) 205-7829, email: sm.fs.nucfac@usda.gov.

Individuals who use telecommunication devices for the deaf and hard of hearing (TDD) may call the Federal Relay Service (FRS) at 1-800-877-8339, 24 hours a day, every day of the year, including holidays.

SUPPLEMENTARY INFORMATION: Nominations must contain a completed application packet that may be downloaded from the application website at https://nucfac.org/application-portal. This includes instructions on how to nominate and apply for a position. Note: As part of the application process, candidates will be required to submit a signed AD-755 Form (Advisory Committee or Research and Promotion Background Information) authorizing the Forest Service to perform a background check. The AD-755 Form should be encrypted and emailed separately to the address in the ADDRESSES section.

Background

In accordance with FACA, the NUCFAC charter was renewed on June 2, 2022 and USDA is seeking nominations for membership to the National Urban and Community Forestry Advisory Council (NUCFAC). Members will advise the Secretary of Agriculture, U.S. Forest Service and related Federal agencies on urban and community forestry and related natural resources. The duties of NUCFAC include: developing a national urban and community forest action plan every ten years as described in the Act; evaluating the implementation of that plan by submitting to the Secretary annual accomplishments of the action plan and any amendments to the plan incorporated into this review, beginning no later than one year after the plan is submitted, and annually thereafter; and annually developing criteria for, and submitting recommendations with respect to, the topic categories and recommendations for grant awards for the Forest Service's National Urban and Community Forestry Challenge Cost Share Grant Program.

NUCFAC Membership

NUCFAC shall be comprised of 15 members appointed by the Secretary of Agriculture. Membership will be fairly balanced in terms of points of view represented and functions to be performed. In NUCFACs renewal of the committee, initial appointments will introduce staggered terms for its memberships —

1. 5, including the chairperson and 2 governmental employees, shall be appointed for a term of 3 years,

2. 5, including 2 governmental employees, shall be appointed for a term of 2 years, and

3. 5, including 2 governmental employees, shall be appointed for a term of 1 year, as designated by the Secretary at the time of appointment.

NUCFAC shall include representation from the following interest areas:

1. Two members representing national nonprofit forestry and conservation citizen organizations;

2. Three members, one each representing State, county, and city and town governments;

3. One member representing the forest products, nursery, or related industries;

4. One member representing urban forestry, landscape, or design consultants;

5. Two members representing academic institutions with an expertise in urban and community forestry activities;

6. One member representing state forestry agencies or equivalent state agencies;

7. One member representing a professional renewable natural resource or arboricultural society;

8. One member from National Institute of Food & Agriculture;

9. One member from the Forest Service; and

10. Two members who are not officers or employees of any governmental body, one of whom is a resident of a community with a population of less than 50,000 as of the most recent census and both of whom have expertise and have been active in urban and community forestry.

NUCFAC shall meet on a periodic and regular basis, at least bi-annually. Any individual or organization may nominate one or more qualified persons to serve on NUCFAC. Individuals may also nominate themselves. Applicants are asked to apply separately for each positions that they are eligible.

Letters of recommendations are welcome, but not required. All nominations will be vetted by USDA. The Secretary of Agriculture will appoint members to NUCFAC from the list of qualified applicants. Members of NUCFAC shall serve without compensation, but may be reimbursed for travel expenses while performing duties on behalf of NUCFAC, subject to approval of USDA.

USDA programs are prohibited from discriminating based on race, color, national origin, religion, sex, gender identity (including gender expression), sexual orientation, disability, age, marital status, family/parental status, income derived from a public assistance program, political beliefs, or reprisal or retaliation for prior civil rights activity, in any program or activity conducted or funded by USDA (not all bases apply to all programs). Remedies and complaint filing deadlines vary by program or incident.

Persons with disabilities who require alternative means of communication for program information (e.g., Braille, large print, audiotape, American Sign Language, etc.) should contact the responsible Agency or USDA's TARGET Center at (202) 720-2600 (voice and TTY) or contact USDA through the Federal Relay Service at (800) 877-8339. Additionally, program information may be made available in languages other than English.

Equal opportunity practices in accordance with USDA's policies will be followed in all appointments to NUCFAC. To ensure that the recommendations of NUCFAC have taken in account the needs of the diverse groups served by USDA, membership shall include to the extent possible, individuals with demonstrated ability to represent minorities, women, and person with disabilities. USDA is an equal opportunity provider, employer, and lender.

Dated: September 28, 2022.
Cikena Reid,
USDA Committee Management Officer.

[FR Doc. 2022-21496 Filed 10-3-22; 8:45 am]

BILLING CODE 3411-15-P